DEPARTMENT OF ENERGY

Office of Energy Efficiency and Renewable Energy

[Docket No. EE-RM-PET-100]

Energy Efficiency Program for Consumer Products: California Energy Commission Petition for Exemption From Federal Preemption of California's Water Conservation Standards for Residential Clothes Washers

AGENCY: Office of Energy Efficiency and Renewable Energy, Department of Energy.

ACTION: Notice.

SUMMARY: The Department of Energy (hereafter “the Department”) announces the extension of the time period for evaluation and decision on the disposition of the California Energy Commission's Petition for Exemption from Federal Preemption of California's Water Conservation Standards for Residential Clothes Washers (hereafter “California Petition”). In accordance with section 327(d)(2) of the Energy Policy and Conservation Act (hereafter “EPCA”), the Department is extending the time period for issuing a decision on the California Petition from June 23, 2006, to December 23, 2006. The Department is extending this time period in order to allow it adequate time to evaluate the California Petition in light of public comments received on the California Petition and the California Energy Commission's (hereafter “CEC”) rebuttal comments received by the Department on May 15, 2006.

DATES: The Department is extending the time period of evaluation of the California Petition from June 23, 2006 to December 23, 2006.

ADDRESSES: For access to the docket to read background documents relevant to this matter; go to the U.S. Department of Energy, Forrestal Building, Room 1J-018 (Resource Room of the Building Technologies Program), 1000 Independence Avenue, SW., Washington, DC 20585-0121, telephone number (202) 586-9127, between 9 a.m. and 4 p.m., Monday through Friday, except Federal holidays. Please call Ms. Brenda Edwards-Jones at the above telephone number for additional information regarding visiting the Resource Room. Please note that the Department's Freedom of Information Reading Room (formerly Room 1E-190 at the Forrestal Building) is no longer housing rulemaking materials.

Electronic copies of the California Petition are available online at either the Department of Energy's Web site at the following URL address: http://www.eere.energy.gov/buildings/appliance_standards/state_petitions.html or the CEC's Web site at the following URL address: http://www.energy.ca.gov/appliances/2005-09-13_PETITION_CLOTHES_WASHERS.PDF. An electronic copy of California's water plan update and related material is available online at the California Department of Water Resources Web site at the following URL address: http://www.waterplan.water.ca.gov/. Electronic copies of comments received by the Department on California's Petition and the California Energy Commission's rebuttal statement are available online at the following URL address: http://www.eere.energy.gov/buildings/appliance_standards/state_petitions.html.

FOR FURTHER INFORMATION CONTACT: Bryan Berringer, U.S. Department of Energy, Office of Energy Efficiency and Renewable Energy, Building Technologies, EE-2J, 1000 Independence Avenue, SW., Washington, DC 20585-0121, (202) 586-0371. E-mail: bryan.berringer@ee.doe.gov. Thomas DePriest, Esq., U.S. Department of Energy, Office of General Counsel, GC-72, 1000 Independence Avenue, SW., Washington, DC 20585-0121, (202) 586-9507, e-mail: Thomas.DePriest@hq.doe.gov.

SUPPLEMENTARY INFORMATION:

I. Authority

II. Background

I. Authority

Part B of Title III of EPCA established the Energy Conservation Program for Consumer Products Other Than Automobiles. (42 U.S.C. 6291-6309) Products covered under the program, including residential clothes washers, and the authority to regulate them, are listed in section 322. (42 U.S.C. 6292) Section 325(g) (42 U.S.C. 6295(g)) establishes standards for certain types of residential clothes washers and requires the Department to issue two rulemakings to consider further amendments.

Federal energy efficiency requirements for residential products generally preempt State laws or regulations concerning energy conservation testing, labeling, and standards. (42 U.S.C. 6297(a)-(c)) However, the Department can grant waivers of Federal preemption (hereafter “waiver” or “exemption”) for particular State laws or regulations, in accordance with the procedures and other provisions of section 327(d) of EPCA. (42 U.S.C. 6297(d)) In particular, section 327(d)(1)(A) of EPCA provides that any State or river basin commission with a State regulation regarding energy use, energy efficiency, or water use requirements for products regulated by the Energy Conservation Program, may petition for an exemption from Federal preemption and seek to apply its own State regulation. (42 U.S.C. 6297(d)(1)(A))

Section 327(d)(2) of EPCA requires that the Department afford interested persons a reasonable opportunity to make written comments, including rebuttal comments, related to the petition. (42 U.S.C. 6297(d)(2)) In addition, section 327(d)(2) of EPCA provides the Department with the authority to extend its decision date to within one year after the date on which the Department accepted the petition. However, the Department must publish notice of this extension in the Federal Register and note its reasons for delay. (42 U.S.C. 6297(d)(2)) In addition, should the Department decide to grant a petition, section 336(a)(1) of EPCA requires that DOE afford interested persons the opportunity to present written and oral data, views, and arguments with respect to any proposed rules prescribed under section 327. (42 U.S.C. 6306(a)(1))

II. Background

On September 16, 2005, the Department received a petition from the CEC, dated September 13, 2005, pursuant to the requirements of section 327(d) of EPCA (42 U.S.C. 6297(d)) and Title 10 Code of Federal Regulations (CFR) part 430, subpart D, and sections 430.41(a)(1) and 430.42 of the CFR. However, by letter dated November 18, 2005, the Department notified the CEC that its petition had failed to comply with certain requirements set out in 10 CFR 430.42(c). The CEC responded on December 5, 2005, and provided the required information. By letter dated December 23, 2005, the Department notified the CEC that it had accepted the California Petition as supplemented.

In accordance with section 327(d)(2) of EPCA (42 U.S.C. 6297(d)(2)) and 10 CFR 430.43, the Department published notice of the California Petition in the Federal Register on February 6, 2006 (hereafter “February 2006 notice”). (71 FR 6022) The February 2006 notice provides a summary of the Department's authority regarding petitions for exemption, the California Petition, and criteria for evaluating petitions for exemption. In the February 2006 notice, to help the Department evaluate the California Petition's request, the Department also invited the public to submit comments, data, and information regarding the California Petition by April 7, 2006.

In order to afford the CEC a reasonable opportunity to review public comments and provide rebuttal, the Department notified the CEC by letter dated April 14, 2006, of its opportunity to provide rebuttal comments. CEC rebuttal comments were received by the Department on May 15, 2006.

In this notice, the Department extends the period for evaluation of the California Petition to December 23, 2006, in order to provide the Department adequate time to evaluate the petition in light of public comments and CEC rebuttal comments received. The Department will consider the information and views submitted and make a determination on the California Petition. At such point, the Department will either provide notice of a proposed rule on which it will seek written and oral comment, or provide a notice of, and the reasons for, denial of the California Petition.

Issued in Washington, DC, on June 14, 2006.
Alexander A. Karsner,
Assistant Secretary, Energy Efficiency and Renewable Energy.

[FR Doc. E6-9637 Filed 6-19-06; 8:45 am]

BILLING CODE 6450-01-P